NATIONAL CREDIT UNION ADMINISTRATION

Notice of Meeting

TIME AND DATE: 10 a.m., Thursday, December 18, 2003.

PLACE: Board Room, 7th Floor, Room 7047, 1775 Duke Street, Alexandria, VA 22314-3428.

STATUS: Open.

MATTERS TO BE CONSIDERED:

1. Requests from three (3) Federal Credit Union to Convert to Community Charters.

2. Request from a Federal Credit Union to Expand its Community Charter.

3. Advance Notice of Proposed Rulemaking: Interagency Proposal to Consider Alternative Forms of Privacy Notices.

4. Final Rule: Part 745 of NCUA's Rules and Regulations, Share Insurance.

5. Final Rule: Section 701.22 of NCUA's Rules and Regulations, Loan Participation.

6. National Credit Union Share Insurance Fund (NCUSIF) Operating Level for 2004.

RECESS: 11:15 a.m.

TIME AND DATE: 11:30 a.m., Thursday, December 18, 2003

PLACE: Board Room 7th Floor, Room 7047, 1775 Duke Street, Alexandria, VA 22314-3428.

STATUS: Closed.

MATTERS TO BE CONSIDERED: 1. Field of Membership Appeal. Closed pursuant to exemption (4).

FOR FURTHER INFORMATION CONTACT: Becky Baker, Secretary of the Board, Telephone: (703) 518-6304

Becky Baker,
Secretary of the Board.

[FR Doc. 03-31037 Filed 12-11-03; 3:29 pm]

BILLING CODE 7535-01-M